DEPARTMENT OF TRANSPORTATION

Federal Aviation Administration

14 CFR Part 39

[Docket No. FAA-2006-24694; Directorate Identifier 2006-NM-018-AD]

RIN 2120-AA64

Airworthiness Directives; Raytheon (Beech) Model 400 and 400A Series Airplanes

AGENCY: Federal Aviation Administration (FAA), Department of Transportation (DOT).

ACTION: Notice of proposed rulemaking (NPRM).

SUMMARY: The FAA proposes to adopt a new airworthiness directive (AD) for certain Raytheon (Beech) Model 400 and 400A series airplanes. This proposed AD would require, among other actions, reviewing the airplane logbook to determine whether certain generator control unit (GCU) installation kits are installed, and replacing any incorrect GCU. This proposed AD results from reports of over-voltage conditions of the direct current (DC) starter generator. We are proposing this AD to prevent such over-voltage conditions due to the incompatibility between certain GCUs, which could result in the loss of normal electrical power, damage to some electrical components, or blown fuses during flight, and consequent unrecoverable loss of some or all essential equipment.

DATES: We must receive comments on this proposed AD by June 23, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Raytheon Aircraft Company, Department 62, P.O. Box 85, Wichita, Kansas 67201-0085, for the service information identified in this proposed AD.

FOR FURTHER INFORMATION CONTACT: Philip Petty, Aerospace Engineer, Electrical Systems and Avionics, ACE-119W, FAA, Wichita Aircraft Certification Office, 1801 Airport Road, room 100, Mid-Continent Airport, Wichita, Kansas 67209; telephone (316) 946-4139; fax (316) 946-4107.

SUPPLEMENTARY INFORMATION:

Comments Invited

We invite you to submit any relevant written data, views, or arguments regarding this proposed AD. Send your comments to an address listed in the ADDRESSES section. Include the docket number “FAA-2006-24694; Directorate Identifier 2006-NM-018-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received reports of over-voltage conditions of the direct current (DC) starter generator. In one case, over-voltage conditions resulted in complete loss of the DC electrical power during flight and loss of the primary flight display. The cause is the incompatibility between a Goodrich (formerly Lucas Aerospace) DC starter generator and a Shinko generator control unit (GCU). This condition, if not corrected, could result in loss of normal electrical power, damage to some electrical components, or blown fuses during flight, which could result in the unrecoverable loss of some or all essential equipment.

Relevant Service Information

We have reviewed Raytheon Service Bulletin SB 24-3713, dated November 2005. The service bulletin describes procedures for reviewing the airplane logbook to determine whether a certain GCU installation kit (Lucas Aerospace/Goodrich) is installed and replacing any incorrect Shinko GCU with a new Lucas Aerospace/Goodrich GCU. For certain findings, the service bulletin also describes the following procedures, as applicable:

• Inspecting to determine the part number (P/N) of both GCUs;

• Inspecting to determine the P/N of both current sense transformers on the lower inboard quadrant of the left-hand and right-hand engine inlets;

• Replacing any incorrect GCU with a certain new GCU; and

• Replacing any incorrect current sense transformer with a certain new transformer.

Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously except as discussed under “Difference Between the Proposed AD and the Service Bulletin.”

Difference Between the Proposed AD and the Service Bulletin

Operators should note that the applicability of this proposed AD differs from the Effectivity of Raytheon Service Bulletin SB 24-3713. In addition to airplanes on which Kit No. 128-3004-1 P has been incorporated, this proposed AD also affects airplanes on which Kit No. 128-3004-3 P has been incorporated. We have determined that those airplanes also are subject to the identified unsafe condition.

We have coordinated this difference with the airplane manufacturer.

Costs of Compliance

There are about 43 airplanes of the affected design in the worldwide fleet. This proposed AD would affect about 40 airplanes of U.S. registry. The proposed inspection would take about 1 work hour per airplane, at an average labor rate of $80 per work hour. Based on these figures, the estimated cost of the proposed AD for U.S. operators is $3,200, or $80 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Raytheon Aircraft Company (Formerly Beech): Docket No. FAA-2006-24694; Directorate Identifier 2006-NM-018-AD.

Comments Due Date

(a) The FAA must receive comments on this AD action by June 23, 2006.

Affected ADs

(b) None.

Applicability

(c) This AD applies to the airplanes identified in Table 1 of this AD, certificated in any category.

Table 1.—Applicability
Raytheon (Beech) model— | Serials— | On which—
(1) 400 series airplanes | RJ-1 through RJ-65 inclusive | Kit part number (P/N) 128-3004-1 P or 128-3004-3 P has been incorporated (Lucas Aerospace/Goodrich Direct Current (DC) Starter Generator).
(2) 400A series airplanes | RK-1 through RK-23 inclusive | Kit P/N 128-3004-1 P or 128-3004-3 P has been incorporated (Lucas Aerospace/Goodrich DC Starter Generator).

Unsafe Condition

(d) This AD results from reports of over-voltage conditions of the DC starter generator. We are issuing this AD to prevent over-voltage conditions of the DC starter generator due to the incompatibility between certain GCUs, which could result in the loss of normal electrical power, damage to some electrical components, or blown fuses during flight, and consequent unrecoverable loss of some or all essential equipment.

Compliance

(e) You are responsible for having the actions required by this AD performed within the compliance times specified, unless the actions have already been done.

Service Bulletin

(f) The term “service bulletin,” as used in this AD, means the Accomplishment Instructions of Raytheon Service Bulletin SB 24-3713, dated November 2005.

Review of Logbook

(g) Within 200 flight hours or 6 months after the effective date of this AD, whichever occurs first, review the airplane logbook to determine whether GCU installation kit, P/N 128-3001-1 P or 128-3001-3 P, is installed, in accordance with the service bulletin.

Installation Kit Not Found Installed: Replacement of Shinko GCU

(h) If no GCU installation kit, P/N 128-3001-1 P or 128-3001-3 P, is found installed or if the kit P/N cannot be conclusively determined during the review required by paragraph (g) of this AD, within 200 flight hours or 6 months after the effective date of this AD, whichever occurs first, replace the Shinko GCUs with new Lucas Aerospace/Goodrich GCUs (installation kit P/N 128-3001-1 P or 128-3001-3 P), in accordance with the service bulletin.

Installation Kit Found Installed: Inspections of GCUs and Current Sense Transformers and Replacement of Transformers as Applicable

(i) If any GCU installation kit, P/N 128-3001-1 P or 128-3001-3 P is found installed during the review required by paragraph (g) of this AD: Within 200 flight hours or 6 months after the effective date of this AD, whichever occurs first, inspect to determine the P/N of both GCUs, in accordance with the service bulletin; and at the times specified in Table 2, do the applicable action(s) in that table.

Table 2.—Inspection and Replacement of Current Sense Transformers
If— | Then, within 200 flight hours or 6 months after the effective date of this AD, whichever occurs first | If— | Then—
(1) Both GCUs have P/N 45AS88801-19 or -25 | Inspect to determine the P/N of both current sense transformers on the lower inboard quadrant of the left-hand and right-hand engine inlets, in accordance with the service bulletin | Both current sense transformers have P/N 45AS88801-21 Either current sense transformer is not identified with P/N 45AS88801-21 | No further action is required by this AD. Within 200 flight hours or 6 months after the effective date of this AD, whichever occurs first, replace the current sense transformer with a new transformer, P/N 45AS88801-21, in accordance with the service bulletin.
(2) Either GCU does not have P/N 45AS88801-19 or -25 | Replace the GCU with a new GCU, P/N 45AS88801-19 or -25, and inspect to determine the P/N of both current sense transformers on the lower inboard quadrant of the left-hand and right-hand engine inlets; in accordance with the service bulletin | Both current sense transformers have P/N 45AS88801-21 Either current sense transformer is not identified with P/N 45AS88801-21 | No further action is required by this AD. Within 200 flight hours or 6 months after the effective date of this AD, whichever occurs first, replace the current sense transformer with a new transformer, P/N 45AS88801-21, in accordance with the service bulletin.

Alternative Methods of Compliance (AMOCs)

(j)(1) The Manager, Wichita Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on April 28, 2006.
Ali Bahrami,
Manager, Transport Airplane Directorate, Aircraft Certification Service.

[FR Doc. E6-7014 Filed 5-8-06; 8:45 am]

BILLING CODE 4910-13-P